NATIONAL CREDIT UNION ADMINISTRATION

Sunshine Act; Notice of Agency Meeting

Time and Date: 9 a.m., Thursday, November 18, 2010.

Place: Board Room, 7th Floor, Room 7047, 1775 Duke Street, Alexandria, VA 22314-3428.

Status: Open.

Matters to be Considered: 1. Interim Final Rule—Part 704 of NCUA's Rules and Regulations, Corporate Credit Unions, Technical Corrections.

2. Proposed Rule—Part 704 of NCUA's Rules and Regulations, Corporate Credit Unions.

3. Insurance Fund Report and Premium/Assessment Ranges.

4. NCUA's 2011 Operating Budget.

5. NCUA's Overhead Transfer Rate.

6. NCUA's Operating Fee Scale.

FOR FURTHER INFORMATION CONTACT: Mary Rupp, Secretary of the Board, Telephone: 703-518-6304.

Mary Rupp,
Board Secretary.

[FR Doc. 2010-28808 Filed 11-10-10; 4:15 pm]

BILLING CODE P